Title 3—

The President

Memorandum of September 29, 2015

Delegation of Authority Under Section 404(c) of the Child Soldiers Prevention Act of 2008

Memorandum for the Secretary of State

By the authority vested in me as President by the Constitution and the laws of the United States of America, including section 301 of title 3, United States Code, I hereby delegate to the Secretary of State the authority under section 404(c)(1) of the Child Soldiers Prevention Act of 2008 (22 U.S.C. 2370c-1) (CSPA), to waive the application of the prohibition in section 404(a) of the CSPA to Yemen, and to make the determinations necessary for such waiver. I hereby also delegate to the Secretary of State the authority under section 404(c)(2) of the CSPA to notify the appropriate congressional committees of such waiver and the justification for granting such waiver.

You are hereby authorized and directed to publish this memorandum in the Federal Register.

THE WHITE HOUSE,

Washington, September 29, 2015

[FR Doc. 2015-26489

Filed 10-15-15; 8:45 am]

Billing code 4710-10-P